DEPARTMENT OF THE INTERIOR

National Park Service

[N6747; NPS-WASO-NAGPRA-NPS0041504; PPWOCRADN0-PCU00RP14.R50000]

Notice of Inventory Completion: Department of Anthropology, University of South Florida, Tampa, FL

AGENCY: National Park Service, Interior.

ACTION: Notice.

SUMMARY: In accordance with the Native American Graves Protection and Repatriation Act (NAGPRA), the Department of Anthropology, University of South Florida has completed an inventory of human remains and associated funerary objects and has determined that there is a cultural affiliation between the human remains and associated funerary objects and Indian Tribes or Native Hawaiian organizations in this notice.

DATES: Repatriation of the human remains and associated funerary objects in this notice may occur on or after January 20, 2026.

ADDRESSES: Send written requests for repatriation of the human remains and associated funerary objects in this notice to Thomas J. Pluckhahn, Department of Anthropology, University of South Florida, 4202 E Fowler Avenue, SOC 107, Tampa, FL 33620-8100, email tpluckhahn@usf.edu.

SUPPLEMENTARY INFORMATION: This notice is published as part of the National Park Service's administrative responsibilities under NAGPRA. The determinations in this notice are the sole responsibility of the Department of Anthropology, University of South Florida and additional information on the determinations in this notice, including the results of consultation, can be found in its inventory or related records. The National Park Service is not responsible for the determinations in this notice.

Abstract of Information Available

Human remains representing, at least, 76 individuals have been identified in the collections referred to as “Mixed/Unprovenienced Assemblage #1 (HCM Boxes 6, 8, 9; SOC125 Boxes A, B, C, and D; USFAC Boxes 8A, E, and F; SPHM Box 5; USF Anthropology Biolaboratory).” The 27 associated funerary objects are: one fragment of pottery and 26 non-human animal bones. These 12 boxes each include numerous small bags that are either un-labelled or labelled only by element. Overlapping catalogue numbers/numbering systems suggest the human remains have been mixed. We have not been able to locate any inventories with corresponding catalogue numbers. Box labels indicate that some of these human remains were obtained by donations from the Hillsborough County Museum (the predecessor to the Museum of Science and Industry) and the St. Petersburg History Museum, probably sometime in the 1980s. Neither these of these institutions, nor USF Anthropology, have records documenting these acquisitions/donations. However, the taphonomy is consistent with a pre-Columbian age and we assume these might have been associated with collections known to be from Florida archaeological sites. We are not aware of the presence of any potentially hazardous substances used to treat any of the human remains.

Human remains representing, at least, three individuals have been identified in the collections referred to as “Mixed/Unprovenienced Assemblage #2 (USFAC Box A, Catalogue #s: USFAC-012, FL-009, USFAC-013, II-90).” There are no associated funerary objects. This collection consists of a single box with two bags labelled “misc juvenile.” We have not been able to locate any inventories with corresponding catalogue numbers or any records documenting the acquisition of these human remains. However, the taphonomy is consistent with a pre-Columbian age and we assume these might have been associated with collections known to be from Florida archaeological sites. We are not aware of the presence of any potentially hazardous substances used to treat any of the human remains.

Human remains representing, at least, two individuals have been identified in the collections referred to as “Mixed/Unprovenienced Assemblage #3 (USFAC Box B, Catalogue #s: USFAC-030, USFAC-026, USFAC-023).” There are no associated funerary objects. This collection consists of a single box with four bags labelled only by number or as “unassociated remains.” We have not been able to locate any inventories with corresponding catalogue numbers or any records documenting the acquisition of these human remains. However, the taphonomy is consistent with a pre-Columbian age and we assume these might have been associated with collections known to be from Florida archaeological sites. We are not aware of the presence of any potentially hazardous substances used to treat any of the human remains.

Human remains representing, at least, two individuals have been identified in the collections referred to as “Mixed/Unprovenienced Assemblage #4 (USFAC Box C, Catalogue #s: USFAC-022, USFAC-018, FL-002, FL-016).” There are no associated funerary objects. This collection consists of a single box with two bags labelled only by number. We have not been able to locate any inventories with corresponding catalogue numbers or any records documenting the acquisition of these human remains. However, the taphonomy is consistent with a pre-Columbian age and we assume these might have been associated with collections known to be from Florida archaeological sites. We are not aware of the presence of any potentially hazardous substances used to treat any of the human remains.

Human remains representing, at least, two individuals have been identified in the collections referred to as “Mixed/Unprovenienced Assemblage #5 (USFAC Box D, Catalogue #s USFAC-019, USFAC-009).” There are no associated funerary objects. This collection consists of a single box with two bags labelled only by number or as “unidentified human remains, no provenience.” We have not been able to locate any inventories with corresponding catalogue numbers or any records documenting the acquisition of these human remains. However, the taphonomy is consistent with a pre-Columbian age and we assume these might have been associated with collections known to be from Florida archaeological sites. We are not aware of the presence of any potentially hazardous substances used to treat any of the human remains.

Human remains representing, at least, four individuals have been identified in the collections referred to as “Mixed/Unprovenienced Assemblage #6 (SPHM Box 1).” There are no associated funerary objects. This collection consists of a single box with 10 bags labelled only by element. The box label indicates that these human remains were obtained by donations from the St. Petersburg History Museum, probably sometime in the 1980s. Neither this institution, nor USF Anthropology, has records documenting these acquisitions/donations. However, the taphonomy is consistent with a pre-Columbian age and we assume these might have been associated with collections known to be from Florida archaeological sites. We are not aware of the presence of any potentially hazardous substances used to treat any of the human remains.

Human remains representing, at least, seven individuals have been identified in the collections referred to as “Mixed/Unprovenienced Assemblage #7 (SPHM Box 4).” There are no associated funerary objects. This collection consists of a single box with three bags, one of which bears the label “flat head . . . skull bones west end of lake . . . cranial, Me . . . [?] 1963.” A box label indicates that these human remains were obtained by donation from the St. Petersburg History Museum, probably sometime in the 1980s. Neither this institution, nor USF Anthropology, has records documenting these acquisitions/donations. However, the taphonomy is consistent with a pre-Columbian age and we assume these might have been associated with collections known to be from Florida archaeological sites. We are not aware of the presence of any potentially hazardous substances used to treat any of the human remains.

Human remains representing, at least, four individuals have been identified in the collections referred to as “Mixed/Unprovenienced Assemblage #8 (SPHM Boxes 01074 and 01075).” There is one associated funerary object, a lightning whelk shell. This collection includes two boxes. One contains six bags of human remains: two labelled “Ind. 1”, one labelled “Ind. 2”, and two labelled “Ind. 3.” The second box contains 15 bags and one glass jar with human remains; eight of the containers are labelled “Ind. 1,” one is labelled “Ind. 2” and the others are either unlabelled or labelled only by element. One of the bags describes Individual 1 as coming from “St. Pete, FL.” Florida. The box labels indicate that these human remains were obtained by donation from the St. Petersburg History Museum, probably sometime in the 1980s. Neither this institution, nor USF Anthropology, has records documenting these acquisitions/donations. However, the taphonomy is consistent with a pre-Columbian age and we assume these might have been associated with collections known to be from Florida archaeological sites. We are not aware of the presence of any potentially hazardous substances used to treat any of the human remains or the associated funerary object.

Human remains representing, at least, two individuals have been identified in the collections referred to as “Mixed/Unprovenienced Assemblage #9 (Boxes 00617).” There are no associated funerary objects. This collection consists of a single box containing nine bags of human remains: six of the bags are labelled by element and “Individual #1,” the three other bags are labelled by element and “Individual #2.” We have not been able to locate any inventories with corresponding catalogue numbers or any records documenting the acquisition of these human remains. However, the taphonomy is consistent with a pre-Columbian age and we assume these might have been associated with collections known to be from Florida archaeological sites. We are not aware of the presence of any potentially hazardous substances used to treat any of the human remains.

Human remains representing, at least, one individual have been identified in the collections referred to as “Mixed/Unprovenienced Assemblage #11 (Donation 18).” The two associated funerary objects are two fragments of non-human bone. This collection consists of a single containing 37 individually number elements. This collection appeared on an inventory completed in 1987 with the notation “unknown, found in collections.” We have not been able to identify any other records describing the acquisition of these human remains. However, the taphonomy is consistent with a pre-Columbian age and we assume these might have been associated with collections known to be from Florida archaeological sites. We are not aware of the presence of any potentially hazardous substances used to treat any of the human remains.

Human remains representing, at least, one individual have been identified in the collections referred to as “Mixed/Unprovenienced Assemblage #12 (Individual #3, RMLT8-15-19).” There are no associated funerary objects. This collection consists of single box with two bags. We have not been able to identify any other records describing the acquisition of these human remains. However, the taphonomy is consistent with a pre-Columbian age and we assume these might have been associated with collections known to be from Florida archaeological sites. We are not aware of the presence of any potentially hazardous substances used to treat any of the human remains.

Cultural Affiliation

Based on the information available and the results of consultation, cultural affiliation is reasonably identified by the geographical location or acquisition history of the human remains and associated funerary objects described in this notice.

Determinations

The Department of Anthropology, University of South Florida have determined that:

• The human remains described in this notice represent the physical remains of 104 individuals of Native American ancestry.

• The 30 objects described in this notice are reasonably believed to have been placed intentionally with or near individual human remains at the time of death or later as part of the death rite or ceremony.

• There is a connection between the human remains and associated funerary objects described in this notice and the Miccosukee Tribe of Indians; Seminole Tribe of Florida; and The Seminole Nation of Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after January 20, 2026. If competing requests for repatriation are received, the Department of Anthropology, University of South Florida must determine the most appropriate requestor prior to repatriation. Requests for joint repatriation of the human remains and associated funerary objects are considered a single request and not competing requests. The Department of Anthropology, University of South Florida is responsible for sending a copy of this notice to the Indian Tribes and Native Hawaiian organizations identified in this notice and any other consulting parties.

Authority: Native American Graves Protection and Repatriation Act, 25 U.S.C. 3003, and the implementing regulations, 43 CFR 10.10.

Dated: December 2, 2025.
Melanie O'Brien,
Manager, National NAGPRA Program.

[FR Doc. 2025-23195 Filed 12-17-25; 8:45 am]

BILLING CODE 4312-52-P